DEPARTMENT OF DEFENSE

Office of the Secretary

Meeting Notice—Military Justice Review Panel (MJRP)

AGENCY: Department of Defense (DoD).

ACTION: Notice of meeting.

SUMMARY: The DoD is publishing this notice to announce that the MJRP will host a meeting on April 23-24, 2024.

DATES: Tuesday, April 23, 2024—Open to the public from 9:30 a.m. to 11 a.m.; 11:15 a.m. to 12:45 p.m. and 1:45 p.m. to 3 p.m. Pacific Standard Time. Wednesday, April 24, 2024—MJRP administrative session.

ADDRESSES: This meeting will be held at Joint Base Lewis-McChord, Washington. The open sessions of the meeting can be accessed virtually. For those who would like to attend, please send registration information to whs.pentagon.em.mbx.mjrp@mail.mil, providing your name, email, organization (if applicable), and telephone number.

FOR FURTHER INFORMATION CONTACT: Mr. Pete L. Yob, 703-693-3857 (Voice), louis.p.yob.civ@mail.mil (Email). Mailing address is MJRP, One Liberty Center, 875 N. Randolph Street, Suite 150, Arlington, Virginia 22203. The most up-to-date changes to the meeting agenda can be found on the website: https://mjrp.osd.mil.

SUPPLEMENTARY INFORMATION: Pursuant to section 5521 of the National Defense Authorization Act (NDAA) for Fiscal Year (FY) 2017, as amended by section 531(k) of the FY 2018 NDAA, the Secretary of Defense established the MJRP to conduct independent periodic reviews and assessments of the operation of the Uniform Code of Military Justice (UCMJ). (10 United States Code section946. Art. 146 (effective Jan 1, 2019)).

Purpose of the Meeting: Pursuant to UCMJ, Article 146, the MJRP shall conduct independent periodic reviews and assessments of the operation of the UCMJ. This will be the tenth meeting held by the MJRP. On April 23, 2024, the MJRP will hold three open sessions. The first session will be composed of a panel of Commanding Officers from each of the Armed Services. After a break, the MJRP will hear from a panel of Senior Enlisted Advisors followed by a panel discussion with practitioners with military and civilian experience. On April 23, 2024, the MJRP will conduct a session for administrative matters.

Dated: April 8, 2024.
Aaron T. Siegel,
Alternate OSD Federal Register Liaison Officer, Department of Defense.

[FR Doc. 2024-07978 Filed 4-15-24; 8:45 am]

BILLING CODE 6001-FR-P